COMMITTEE FOR PURCHASE FROM PEOPLE WHO ARE BLIND OR SEVERELY DISABLED

Procurement List; Proposed Additions and Deletions

AGENCY: Committee for Purchase From People Who Are Blind or Severely Disabled.

ACTION: Proposed additions to and deletions from procurement list.

SUMMARY: The Committee is proposing to add to the Procurement List products and/or services to be furnished by nonprofit agencies employing persons who are blind or have other severe disabilities, and to delete products previously furnished by such agencies.

Comments Must Be Received on or Before: January 18, 2009.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or e-mail CMTEFedReg@AbilityOne.gov.

SUPPLEMENTARY INFORMATION: This notice is published pursuant to 41 U.S.C 47(a) (2) and 41 CFR 51-2.3. Its purpose is to provide interested persons an opportunity to submit comments on the proposed actions.

Additions

If the Committee approves the proposed additions, the entities of the Federal Government identified in this notice for each product or service will be required to procure the products and/or service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and/or service to the Government.

2. If approved, the action will result in authorizing small entities to furnish the products and/or service to the Government.

3. There are no known regulatory alternatives which would accomplish the objectives of the Javits-Wagner-O'Day Act (41 U.S.C. 46-48c) in connection with the products and/or service proposed for addition to the Procurement List.

Comments on this certification are invited. Commenters should identify the statement(s) underlying the certification on which they are providing additional information.

End of Certification

The following products and/or services are proposed for addition to Procurement List for production by the nonprofit agencies listed:

Products

Flags, United States Coast Guard

NSNS: 8345-01-087-4593—Flag, U.S. Coast Guard;

8345-01-085-6033—Flag, U.S. Coast Guard;

8345-01-087-4592—Flag, U.S. Coast Guard;

8345-00-265-7522—Flag, U.S. Coast Guard;

8345-01-168-1145—Flag, U.S. Coast Guard;

8345-01-168-1147—Flag, U.S. Coast Guard;

8345-01-168-1144—Flag, U.S. Coast Guard;

8345-00-242-0271—Flag, U.S. Coast Guard;

8345-01-033-9300—Flag, U.S. Coast Guard;

8345-00-242-0270—Flag, U.S. Coast Guard;

8345-00-242-0269—Flag, U.S. Coast Guard;

8345-00-242-0268—Flag, U.S. Coast Guard;

8345-00-242-0267—Flag, U.S. Coast Guard;

8345-01-248-4071—Flag, U.S. Coast Guard;

8345-00-242-0266—Flag, U.S. Coast Guard;

8345-01-298-7403—Flag, U.S. Coast Guard;

8345-01-087-4597—Flag, U.S. Coast Guard;

8345-01-087-4596—Flag, U.S. Coast Guard;

8345-01-085-6034—Flag, U.S. Coast Guard.

NPA: Goodwill Industries of South Florida, Inc., Miami, FL.

Contracting Activity: U.S. COAST GUARD, ELC, Baltimore, MD.

Coverage: C-list for the requirements of the U.S Coast Guard, Baltimore, MD.

United States Army Corps of Engineers Uniforms

NSNs: COE051-Windbreaker;

COE050-3 Season Jacket;

COE048-Mesh Base Ball Cap;

COE047-Base Ball Cap;

COE046-Jacket;

COE045-Coveralls;

COE044-Unisex Coveralls;

COE043-Unisex Coveralls;

COE042-Parka;

COE041-Unisex Vest;

COE040-Sweatshirt;

COE039-Sweatshirt

COE036-Dress Belt;

COE035-Black Web Belt;

COE034B-Gloves;

COE034A-Gloves;

COE033-Jeans;

COE032-Jeans;

COE031-Pants;

COE030-Pants;

COE027-Unisex T-Shirt;

COE025-Unisex Shirt;

COE024-Work Shirt;

COE023-Work Shirt;

COE022-Work Shirt;

COE021-Work Shirt;

COE020-Work Shirt;

COE019-Work Shirt;

COE018-Cap;

COE017-Belt;

COE016A-Trousers;

COE016B-Trousers;

COE015A-Shirt;

COE015B-Shirt;

COE014A-Shirt;

COE014B-Shirt;

COE013-Skirt;

COE012-Pants;

COE011-Pants;

COE010-Tie Tac;

COE009-Tie;

COE008-Tab Bow;

COE007-Shirt;

COE006-Shirts;

COE005-Shirts;

COE004-Shirts;

COE003-Unisex Sweater;

COE002-Blazer;

COE001-Blazer.

NPA: Human Technologies Corporation, Utica, NY.

Contracting Activity: Dept of the Army, XU W072 Endist, Pittsburgh, PA.

Coverage: C-list for the requirements of the U.S. Army Corps of Engineers, Pittsburgh, PA.

Services:

Service Type/Location:

Grounds Maintenance, MCLB, Albany, GA, Marine Corps Logistics BASE, Albany, GA.

NPA: Power Works Industries, Inc., Columbus, GA.

Contracting Activity: Dept of the Navy, Commander, Albany, GA.

Deletions

Regulatory Flexibility Act Certification

I certify that the following action will not have a significant impact on a substantial number of small entities. The major factors considered for this certification were:

1. If approved, the action will not result in additional reporting, recordkeeping or other compliance requirements for small entities.

2. If approved, the action will not result in authorizing small entities to furnish the products and/or service to the Government.

3. There are no known regulatory alternatives which would accomplish the objectives of the Javits-Wagner-O'Day Act (41 U.S.C. 46-48c) in connection with the products and/or service proposed for deletion from the Procurement List.

End of Certification

The following products are proposed for deletion from the Procurement List:

Products:

Tape, Electronic Data Processing

NSN: 7045-01-372-8269-Tape, Electronic Data Processing.

NPA: North Central Sight Services, Inc., Williamsport, PA.

Contracting Activity: Defense Supply Center Columbus, Columbus, OH.

Markers, Lumocolor

NSNs: 7520-01-507-6974 Markers, Lumocolor, Permanent;

7520-01-392-5296-Markers, Lumocolor, Permanent;

7520-01-507-6972-Markers, Lumocolor, Permanent;

7520-01-392-5295-Markers, Lumocolor, Permanent;

7520-01-507-6965-Markers, Lumocolor, Non-Permanent;

7520-00-422-5769-Markers, Lumocolor, Non-Permanent;

7520-01-507-6963-Markers, Lumocolor, Non-Permanent;

7520-01-507-6958-Markers, Lumocolor, Non-Permanent.

NPA: Winston-Salem Industries for the Blind, Winston-Salem, NC.

Contracting Activity: GSA/FSS Ofc Sup Ctr-Paper Products, New York, NY.

Badge, Identification

NSN: 8455-01-396-2284-Badge, Identification.

NPA: East Texas Lighthouse for the Blind, Tyler, TX.

Contracting Activity: GSA/FAS Southwest Supply Center (QSDAC), Fort Worth, TX.

Barry S. Lineback,
Sr. Program Analyst.

[FR Doc. E8-30189 Filed 12-18-08; 8:45 am]

BILLING CODE 6353-01-P